ENVIRONMENTAL PROTECTION AGENCY

40 CFR Part 52

[EPA-R05-OAR-2015-0408; EPA-R05-OAR-2015-0409; FRL-9932-62-Region 5]

Air Plan Approval; IL; MN; Determinations of Attainment of the 2008 Lead Standard for Chicago and Eagan

AGENCY: Environmental Protection Agency (EPA).

ACTION: Proposed rule.

SUMMARY: The Environmental Protection Agency (EPA) is proposing to make determinations under the Clean Air Act (CAA) that the Chicago, Illinois and Eagan, Minnesota nonattainment areas (hereafter also referred to, respectively, as the “Chicago area,” “Eagan area,” or “areas”) have attained the 2008 lead (Pb) national ambient air quality standard (NAAQS or standard). These determinations of attainment are based upon complete, quality-assured, and certified ambient air monitoring data for the 2012-2014 design period showing that the areas have achieved attainment of the 2008 Pb NAAQS. Additionally, as a result of these determinations, EPA proposes to suspend the requirements for the areas to submit attainment demonstrations, and associated reasonably available control measures (RACM), reasonable further progress (RFP) plans, contingency measures for failure to meet RFP, and attainment deadlines, for as long as the areas continue to attain the 2008 Pb NAAQS. In this action EPA is not proposing a redesignation of the areas to attainment of the 2008 Pb NAAQS; the areas remain designated nonattainment until such time as EPA determines that the areas meet the CAA requirements for redesignation to attainment and takes action to redesignate the areas.

DATES: Comments must be received on or before September 23, 2015.

ADDRESSES: Submit your comments, identified by Docket ID No. EPA-R05-OAR-2015-0408 (Chicago area) or EPA-R05-OAR-2015-0409 (Eagan area), by one of the following methods:

1. www.regulations.gov: Follow the on-line instructions for submitting comments.

2. Email: aburano.douglas@epa.gov.

3. Fax: (312) 408-2279.

4. Mail: Douglas Aburano, Chief, Attainment Planning and Maintenance Section, Air Programs Branch (AR-18J), U.S. Environmental Protection Agency, 77 West Jackson Boulevard, Chicago, Illinois 60604.

5. Hand Delivery: Douglas Aburano, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Eric Svingen, Environmental Engineer, Attainment Planning and Maintenance Section, Air Programs Branch (AR-18J), Environmental Protection Agency, Region 5, 77 West Jackson Boulevard, Chicago, Illinois 60604, (312) 353-4489, svingen.eric@epa.gov.

SUPPLEMENTARY INFORMATION: In the Final Rules section of this Federal Register, EPA is making an attainment determination as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: August 10, 2015.
Susan Hedman,
Regional Administrator, Region 5.

[FR Doc. 2015-20776 Filed 8-21-15; 8:45 am]

BILLING CODE 6560-50-P